DEPARTMENT OF THE INTERIOR

Bureau of Indian Affairs

Collection of Water Delivery and Electric Service Data for the Operation of Irrigation and Power Projects and Systems: Proposed Collection of Water Delivery and Electric Service Data; Comment Request

AGENCY: Bureau of Indian Affairs, Interior.

ACTION: Notice.

SUMMARY: In compliance with the Paperwork Reduction Act of 1995 (44 U.S.C. 3501 et seq.), the Bureau of Indian Affairs invites comments on two information collection requests which will be renewed. The two collections are: Electrical Service Application, 1076-0021, and Water Request, 1076-0141.

DATES: Comments must be received on or before May 1, 2006, to be assured of consideration.

ADDRESSES: Comments should be sent to: John Anevski, Bureau of Indian Affairs, Branch of Irrigation, Power, and Safety of Dams, Mail Stop 4655-MIB, Washington, DC 20240.

FOR FURTHER INFORMATION CONTACT: Interested persons may obtain a copy of the information collection requests without charge by contacting John Anevski at (202) 208-5480, or facsimile number: (202) 219-0006.

SUPPLEMENTARY INFORMATION: The Paperwork Reduction Act of 1995 provides an opportunity for interested parties to comment on proposed information collection requests. The Bureau of Indian Affairs, Branch of Irrigation, Power, and Safety of Dams is proceeding with this public comment period as the first step in obtaining a normal information collection clearance from Office of Management and Budget (OMB). Each request contains (1) Type of review, (2) title, (3) summary of the collection, (4) respondents, (5) frequency of collection, (6) reporting and record keeping requirements.

The Bureau of Indian Affairs (BIA) solicits comments in order to:

(1) Evaluate whether the proposed collection of information is necessary for the proper performance of the functions of the BIA, including whether the information will have practical utility;

(2) Evaluate the BIA's estimate of the burden of the proposed collection of information, including the validity of the methodology and assumptions used;

(3) Enhance the quality, utility, and clarity of the information to be collected; and

(4) Minimize the burden of the collection of information on those who are to respond.

Any public comments will be addressed in the Bureau of Indian Affairs' submission of the information collection request to the Office of Management and Budget.

Water Request

OMB Control Number: 1076-0141.

Type of review: Extension of a currently approved collection.

Title: Water Request, 25 CFR 171.

Summary: In order for irrigators to receive water deliveries, information is needed by the BIA to operate and maintain its irrigation projects and fulfill reporting requirements. Section 171.7 of 25 CFR part 171, [Irrigation] Operation and Maintenance, specifies the information collection requirement. Water users must apply for water delivery. The information to be collected includes: name; water delivery location; time and date of requested water delivery; duration of water delivery; rate of water flow; number of acres irrigated; crop statistics; and other operational information identified in the local administrative manuals. Collection of this information is currently authorized under an approval by OMB (OMB Control Number 1076-0141). All information is collected at least annually from each water user with a response required each time irrigation water is provided. Annual reporting and recordkeeping burden for this collection of information is estimated to average 8 minutes per request. There is a range of 1 to 10 requests from each irrigation water user each season with an average of 5 responses per respondent. For all 5 responses, including the time for reviewing instructions, searching existing data sources, gathering and maintaining the data needed, and completing and reviewing the collection of information, the total per respondent is 40 minutes. The total number of respondents is estimated at 10,300 per year. Thus, the total annual reporting and recordkeeping burden for this collection is estimated to be 4,292 hours.

Frequency of Collection: On occasion.

Description of Respondents: BIA Irrigation Project Water Users.

Total Respondents: 10,300.

Total Annual Responses: 51,500.

Total Annual Burden Hours: 6,867 hours.

Electric Service Application

OMB Control Number: 1076-0021.

Type of review: Extension of a currently approved collection.

Title: Electric Service Application, 25 CFR 175.

Summary: In order for electric power consumers to be served, information is needed by the BIA to operate and maintain its electric power utilities and fulfill reporting requirements. Section 175.22 of 25 CFR part 175, Indian electric power utilities, specifies the information collection requirement. Power consumers must apply for electric service. The information to be collected includes: name; electric service location; and other operational information identified in the local administrative manuals. Collection of this information is currently authorized under an approval by OMB (OMB Control Number 1076-0021). All information is collected from each electric power consumer. Annual reporting and recordkeeping burden for this collection of information is estimated to average 30 minutes for each response for 3,000 respondents, including the time for reviewing instructions, searching existing data sources, gathering and maintaining the data needed, and completing and reviewing the collection of information. Thus, the total annual reporting and recordkeeping burden for this collection is estimated to be 1,500 hours.

Frequency of Collection: On Occasion.

Description of Respondents: BIA Electric Power Consumers.

Total Respondents: 3,000.

Total Annual Responses: 3,000.

Total Annual Burden Hours: 1,500 hours.

Dated: February 22, 2006.
Debbie L. Clark,
Acting Principal Deputy Assistant Secretary—Indian Affairs.

[FR Doc. E6-2749 Filed 2-27-06; 8:45 am]

BILLING CODE 4310-W7-P